DEPARTMENT OF COMMERCE

International Trade Administration

(C-580-818)

Corrosion-Resistant Carbon Steel Flat Products from the Republic of Korea: Extension of Time Limit for Preliminary Results of Countervailing Duty Administrative Review

AGENCY: Import Administration, International Trade Administration, Department of Commerce.

EFFECTIVE DATE: April 28, 2008.

FOR FURTHER INFORMATION CONTACT: Robert Copyak or Gayle Longest, AD/CVD Operations, Office 3, Import Administration, International Trade Administration, U.S. Department of Commerce, Room 4014, 14th Street and Constitution Ave., NW, Washington, D.C. 20230, telephone: (202) 482-2209 or (202) 482-3338.

SUPPLEMENTARY INFORMATION:

Background

On September 25, 2007, the U.S. Department of Commerce (“the Department”) published a notice of initiation of the administrative review of the countervailing duty order on corrosion-resistant carbon steel flat products from the Republic of Korea covering the period January 1, 2006, through December 31, 2006. See Initiation of Antidumping and Countervailing Duty Administrative Reviews and Requests for Revocation in Part, 72 FR 54428 (September 25, 2007). The preliminary results are currently due no later than May 2, 2008.

Extension of Time Limit for Preliminary Results

Section 751(a)(3)(A) of the Tariff Act of 1930, as amended (“the Act”), requires the Department to make a preliminary determination within 245 days after the last day of the anniversary month of an order for which a review is requested. Section 751(a)(3)(A) of the Act further states that if it is not practicable to complete the review within the time period specified, the administering authority may extend the 245-day period to issue its preliminary results to up to 365 days.

Due to the complexity of the issues in this administrative review, such as direction of credit, we have determined that it is not practicable to complete the preliminary results of this review within the 245-day period. Therefore, in accordance with section 751(a)(3)(A) of the Act, we are fully extending the time period for issuing the preliminary results of the review. The preliminary results are now due no later than September 2, 2008, the next business day after 365 days after the last day of the anniversary month of the order. The final results continue to be due 120 days after publication of the preliminary results.

This notice is issued and published in accordance with sections 751(a)(3)(A) and 777(i) of the Act.

Dated: April 22, 2008.
Stephen J. Claeys,
Deputy Assistant Secretary for Import Administration.

[FR Doc. E8-9227 Filed 4-25-08; 8:45 am]

BILLING CODE 3510-DS-S